DEPARTMENT OF THE INTERIOR

Fish and Wildlife Service

50 CFR Part 91

[Docket No. FWS-HQ-MB-2015-0161; FXMB12330900000//167//FF09M13200]

RIN 1018-BB23

Revision of Federal Migratory Bird Hunting and Conservation Stamp (Duck Stamp) Contest Regulations

AGENCY: Fish and Wildlife Service, Interior.

ACTION: Proposed rule; extension of comment period.

SUMMARY: We, the U.S. Fish and Wildlife Service (Service), are extending the comment period for our February 11, 2016, proposed rule to change the regulations governing the annual Migratory Bird Hunting and Conservation Stamp Contest (also known as the Federal Duck Stamp Contest). This action will allow interested persons additional time to comment on the proposal. Comments previously submitted need not be resubmitted as they will be fully considered in preparation of the final rule.

DATES: The comment period for the proposed rule published in the Federal Register on February 11, 2016 (81 FR 7279), is extended. We will accept comments from all interested parties until March 21, 2016. Comments submitted electronically using the Federal eRulemaking Portal (see ADDRESSES, below), must be received by 11:59 p.m. Eastern Time on the closing date.

ADDRESSES: Document availability: You may obtain a copy of the proposed rule on the Internet at http://www.regulations.gov at Docket No. FWS-HQ-MB-2015-0161.

Comment submission: You may submit comments by one of the following methods:

• Electronically: Go to the Federal eRulemaking Portal: http://www.regulations.gov. In the Search box, enter FWS-HQ-MB-2015-0161, which is the docket number for this rulemaking. Then click on the Search button. On the resulting page, in the Search panel on the left side of the screen, under the Document Type heading, click on the Proposed Rules link to locate the document. You may submit a comment by clicking on “Comment Now!”

• By hard copy: Submit by U.S. mail or hand delivery to: Public Comments Processing, Attn: FWS-HQ-MB-2015-0161; Division of Policy, Performance, and Management Programs; U.S. Fish and Wildlife Service; 5275 Leesburg Pike, MS: BPHC; Falls Church, VA 22041-3803.

We will post all comments on http://www.regulations.gov. This generally means that we will post any personal information you provide us (see Public Comments under SUPPLEMENTARY INFORMATION for more information).

FOR FURTHER INFORMATION CONTACT: Suzanne Fellows, (703) 358-2145.

SUPPLEMENTARY INFORMATION:

Public Comments

We will accept written comments during this extended comment period on our proposed revisions to the annual Migratory Bird Hunting and Conservation Stamp Contest (also known as the Federal Duck Stamp Contest), that was published in the Federal Register on February 11, 2016 (81 FR 7279). We will consider comments and information that we receive from all interested parties on or before the close of the comment period (see DATES).

If you have already submitted comments during the public comment period that began February 11, 2016, please do not resubmit them. We have incorporated them into the public record, and we will fully consider them in the preparation of our final rule.

You may submit your comments by one of the methods listed in ADDRESSES. We request that you send comments only by the methods described in ADDRESSES.

If you submit a comment via http://www.regulations.gov, your entire comment—including any personal identifying information—will be posted on the Web site. We will post all hardcopy comments on http://www.regulations.gov as well. If you submit a hardcopy comment that includes personal identifying information, you may request at the top of your document that we withhold this information from public review. However, we cannot guarantee that we will be able to do so.

Background

On February 11, 2016, we published a proposed rule (81 FR 7279) regarding changes to the regulations in title 50 of the Code of Federal Regulations (CFR) at 50 CFR part 91 concerning the Federal Duck Stamp Contest. Specifically, our amendments would update our contact information; update the common names and spellings of species on our list of potential contest design subjects; correct minor grammar errors; and update the regulations to require the inclusion of an appropriate secondary non-waterfowl migratory bird species on entries beginning with the 2016 contest.

During the course of the comment period, we received a request to extend the 30-day public comment period on the proposed rule beyond the March 14, 2016, closing date. In order to provide all interested parties an opportunity to review and comment on the proposed rule, we are extending the comment period on the proposed rule for an additional 7 days, until March 21, 2016.

Authority

The authority for this action is the Migratory Bird Hunting and Conservation Stamp Act, as amended (16 U.S.C. 718a et seq.).

Dated: March 8, 2016.
Karen Hyun,
Principal Deputy Assistant Secretary for Fish and Wildlife and Parks.

[FR Doc. 2016-05694 Filed 3-14-16; 8:45 am]

BILLING CODE 4333-15-P